DEPARTMENT OF THE INTERIOR

Bureau of Land Management

[LLMTCO2000-L14300000.ET0000; MTM 102716]

Notice of Proposed Withdrawal Modification and Transfer of Administrative Jurisdiction; Montana

AGENCY: Bureau of Land Management, Interior.

ACTION: Notice.

SUMMARY: The Assistant Secretary of the Interior for Policy, Management and Budget proposes to modify Public Land Order (PLO) No. 1843, on behalf of the Bureau of Land Management (BLM), to transfer administrative jurisdiction of 5.16 acres of National Forest System (NFS) land from the U.S. Forest Service (USFS) to the BLM. The BLM would be the primary agency with responsibility and liability for the uses and activities on the land.

DATES: Comments must be received on or before December 3, 2012.

ADDRESSES: Comments should be sent to the Bureau of Land Management, Miles City Field Manager, 111 Garryowen Road, Miles City, Montana 59301-0940.

FOR FURTHER INFORMATION CONTACT: Pam Wall, BLM, Miles City Field Office, 111 Garryowen Road, Miles City, Montana 59301-0940, 406-233-2846, pwall@blm.gov, or Sandra Ward, BLM, Montana State Office, 406-896-5052, sward@blm.gov. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The Assistant Secretary of the Interior for Policy, Management and Budget proposes to modify Public Land Order (PLO) No. 1843 to transfer administrative jurisdiction from the USFS to the BLM for the following described NFS land which is currently withdrawn from all forms of appropriation under the public land laws, including the United States mining laws, but not the mineral leasing laws:

Principal Meridian, Montana

Fort Howes Work Center

T. 6 S., R. 45 E., section 24, and T. 6 S., R. 46 E., section 19, being more particularly described as follows:

Commencing at the E¼ section corner of section 24, T. 6 S., R. 45 E., Principal Meridian Montana; thence S. 18°50′00″ E., 317.36 feet to a ⅝ in. rebar with a plastic cap at the point of beginning; thence N. 76°54′06″ W., 405.51 feet to a ⅝ in. rebar with a plastic cap; thence N. 41°06′39″ W., 128.12 feet to a ⅝ in. rebar with a plastic cap; thence N. 6°31′31″ E., 56.77 feet to a ⅝ in. rebar with a plastic cap; thence N. 28°24′35″ E., 138.99 feet to a ⅝ in. rebar with a plastic cap; thence N. 48°56′30″ E., 326.99 feet to a ⅝ in. rebar with a plastic cap; thence S. 76°44′47″ E., 263.17 feet to a ⅝ in. rebar with a plastic cap; thence S. 10°26′26″ W., 530.30 feet to the point of beginning.

The area described contains 5.16 acres, more or less, in Powder River County.

The purpose of the proposed withdrawal modification and transfer of administrative jurisdiction is to protect the significant Federal investment in the administrative and fire facilities to be built. The BLM would be the primary agency with responsibility and liability for the uses and activities on the land.

The use of a right-of-way, interagency or cooperative agreement would not provide adequate protection.

There are no suitable alternative sites available.

Water will not be needed to fulfill the purpose of the withdrawal modification and transfer of administrative jurisdiction.

On or before December 3, 2012, all persons who wish to submit comments, suggestions, or objections in connection with the proposed withdrawal modification and transfer of administrative jurisdiction may present their views in writing to the BLM Miles City Field Manager at the address above.

Comments and records relating to the proposed withdrawal, including names and addresses of respondents, will be available for public review in the BLM Miles City Field Office at the address indicated above during regular business hours. Before including your address, phone number, email address, or other personal identifying information in your comment, be advised that your entire comment—including your personal identifying information—may be made publicly available at any time. While you can ask us in your comment to withhold from public review your personal identifying information, we cannot guarantee that we will be able to do so.

This withdrawal modification application will be processed in accordance with the regulations set forth in 43 CFR part 2300.

Gary P. Smith,
Acting Chief, Branch of Land Resources.

[FR Doc. 2012-21672 Filed 8-31-12; 8:45 am]

BILLING CODE P